ENVIRONMENTAL PROTECTION AGENCY

[EPA-HQ-OPP-2009-0207; FRL-8875-1]

Petition Supplement Requesting Cancellation of Propoxur Pet Collar Uses; Notice of Availability

AGENCY: Environmental Protection Agency (EPA).

ACTION: Notice.

SUMMARY: This notice makes available for review and public comment a second petition supplement submitted by the Natural Resources Defense Council (NRDC) to the Environmental Protection Agency (EPA or the Agency) on January 18, 2011. This second supplement supports NRDC's original petition, dated November 26, 2007, requesting that the Agency cancel all pet collar uses for the pesticide propoxur. The petitioner, NRDC, initially requested these cancellations based on their belief that EPA failed to adequately assess residential exposures to pet collars. NRDC believes that modifications to the non-dietary oral exposure pathway presented in the Revised N-methyl Carbamate (NMC) Cumulative Risk Assessment (CRA) underestimate exposure to propoxur from pet collar uses. On April 23, 2009, NRDC supplemented their original petition with additional information on the pesticide. In its most recent supplement, dated January 18, 2011, NRDC states that the EPA's occupational and residential exposure (ORE) risk assessment for propoxur pet collars uses, dated April 7, 2010, as well as the follow-up memorandum refining the ORE risk assessment, dated July 12, 2010, present health risks above EPA's level of concern. NRDC believes that the Agency used incorrect exposure assumptions and failed to adequately assess all routes of exposure, leading to an underestimation of residential risk to children from propoxur pet collars. Finally, under cover letter dated February 4, 2011, NRDC also submitted to EPA 7,577 letters supporting its petition supplement.

DATES: Comments must be received on or before July 15, 2011.

ADDRESSES: Submit your comments, identified by docket identification (ID) number EPA-HQ-OPP-2009-0207, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is: (703) 305-5805.

Instructions: Direct your comments to docket ID number EPA-HQ-OPP-2009-0207. EPA's policy is that all comments received will be included in the docket without change and may be made available on-line at: http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at: http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is: (703) 305-5805.

FOR FURTHER INFORMATION CONTACT: Kaitlin Keller, Chemical Review Manager, Pesticide Re-Evaluation Division (7508P), Office of Pesticide Programs, Environmental Protection Agency, 1200 Pennsylvania Ave., NW., Washington, DC 20460-0001; telephone number: (703) 308-8172; e-mail address: keller.kaitlin@epa.gov.

SUPPLEMENTARY INFORMATION:

I. General Information

A. Does this action apply to me?

This action is directed to the public in general, and may be of interest to a wide range of stakeholders including environmental and human health advocates; the chemical industry; pet owners; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

What action is the agency taking?

EPA requests public comment during the next 30 days on a second petition supplement received from NRDC, dated January 18, 2011, requesting that the Agency cancel all pet collar uses for the pesticide propoxur. To date, NRDC has submitted:

1. A petition dated November 26, 2007 as a public comment to the Revised N-methyl Carbamate Cumulative Risk Assessment docket EPA-HQ-OPP-2007-0935;

2. A petition supplement, dated April 23, 2009, which included an NRDC study report;

3. A mass comment campaign from April 8, 2009 to June 8, 2009 which includes approximately 8,600 letters to EPA requesting the cancellation of tetrachlorvinphos and propoxur in pet products;

4. Comments on the Propoxur Preliminary Work Plan for registration review, dated February 16, 2010;

5. A second petition supplement dated January 18, 2011; and,

6. A mass comment campaign, which includes approximately 7,577 letters supporting its January 18, 2011 petition supplement, submitted under cover letter dated February 2, 2011.

7. All documents are available under EPA docket ID number EPA-HQ-OPP-2009-0207. Again, however, by today's notice, EPA seeks comment only on NRDC's second petition supplement dated January 18, 2011.

In its second petition supplement dated January 18, 2011, on which EPA now seeks comment, NRDC states that the April 7, 2010 ORE assessment indicates risks above EPA's level of concern for children's incidental oral exposure, and that EPA should, therefore, take action to cancel propoxur pet collar uses. NRDC claims that exposure levels from pet collars for household children may be significantly higher than EPA estimates based on common daily activities and contact between children and pets. Furthermore, NRDC claims that the April 7, 2010 ORE risk assessment includes inadequate assumptions in exposure scenarios for children and lacks adequate consideration for dermal exposure and cancer risks.

In 2009, EPA initiated the registration review process of propoxur. The final work plan and related documents are available on the electronic docket at: EPA-HQ-OPP-2009-0806. The 2007 Revised N-methyl Carbamate Cumulative Risk Assessment (NMCCRA), related documents, and comments are available in the electronic docket at: EPA-HQ-OPP-2007-0935. EPA's 1997 Reregistration Eligibility Decision (RED) for Propoxur is available on EPA's pesticide Web page at: http://www.epa.gov/pesticides/reregistration/status.htm.

List of Subjects

Environmental protection, Natural Resources Defense Council, Pesticides and pests, Propoxur.

Dated: June 7, 2011.
Richard P. Keigwin, Jr.,
Director, Pesticide Re-evaluation Division, Office of Pesticide Programs.

[FR Doc. 2011-14763 Filed 6-14-11; 8:45 am]

BILLING CODE 6560-50-P